DEPARTMENT OF THE INTERIOR

Fish and Wildlife Service

Draft Comprehensive Conservation Plan and Environmental Assessment for Horicon National Wildlife Refuge (NWR) in Dodge and Fond du Lac Counties, Wisconsin and Fox River NWR in Marquette County, Wisconsin

AGENCY: Fish and Wildlife Service, Interior.

ACTION: Notice of availability.

SUMMARY: The U.S. Fish and Wildlife Service has announced that a Draft Comprehensive Conservation Plan (CCP) and Environmental Assessment (EA) is available for Horicon and Fox River NWRs, Wisconsin.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Comments on the Draft CCP/EA must be received on or before August 28, 2006.

ADDRESSES: Copies of the Draft CCP/EA are available on compact disk or hard copy. You may obtain a copy by writing to: U.S. Fish and Wildlife Service, Division of Conservation Planning, BHW Federal Building, 1 Federal Drive, Fort Snelling, Minnesota 55111-4056, or you may access and download a copy via the planning Web site at http://www.fws.gov/midwest/planning/horicon.

All comments should be addressed to Horicon National Wildlife Refuge, Attention: CCP Comment, W4279 Headquarters Road, Mayville, Wisconsin 53050, or by e-mail to r3planning@fws.gov. Comments may also be submitted through the Service's regional Web site at http://www.fws.gov/midwest/planning/.

FOR FURTHER INFORMATION CONTACT: Patti Meyers, (920) 387-2658.

SUPPLEMENTARY INFORMATION: The EA evaluates three different approaches, or alternatives, to the future management of Horicon NWR, and two alternatives for Fox River NWR. The plan also identifies wildlife-dependent recreational opportunities available to the public.

The preferred alternative for Horicon includes increased opportunities for hunting, fishing, wildlife observation and photography, environmental education and interpretation. Landscape and watershed involvement by staff and partners would be increased to reduce sedimentation rate and improve water quality in the Horicon Marsh. Habitat management efforts would seek to re-establish a braided river system flowing into the north end of the Horicon Marsh. Refuge uplands would continue to be restored and maintained as open grasslands and oak savanna, which is typical of habitat types prior to European settlement and represents a declining and rare habitat type.

The preferred alternative for Fox River would include an increased deer harvest, the initiation of a fishing program, new wildlife observation and photography opportunities, and the beginning of an environmental education and interpretation program. Habitat restoration and management would continue to perpetuate a variety of native plant and wildlife species, especially those of priority to the Service.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: June 9, 2006.
Charles M. Wooley,
Acting Regional Director, U.S. Fish and Wildlife Service, Fort Snelling, Minnesota.

[FR Doc. E6-11921 Filed 7-25-06; 8:45 am]

BILLING CODE 4310-55-P